NUCLEAR REGULATORY COMMISSION

10 CFR Part 50

Public Workshop on Risk-Informed Regulation—Option 2

AGENCY: Nuclear Regulatory Commission.

ACTION: Notice of workshop.

SUMMARY: The Nuclear Regulatory Commission (NRC) will host a public workshop to provide an opportunity for discussion of topics raised from the advanced notice of proposed rulemaking on this subject, of the Nuclear Energy Institute's (NEI) guidelines for this issue, and possible alternative approaches to Option 2 in risk-informed regulations. The workshop is open to the public.

DATES: The workshop will be held on Wednesday, February 21, 2001 from 1:00 p.m. to 5:00 p.m. and on Thursday, February 22, 2001 from 8:30 a.m. through 4:00 p.m.

ADDRESSES: Two White Flint North Auditorium, 11545 Rockville Pike, Rockville, MD 20852.

FOR FURTHER INFORMATION CONTACT: Joe Golla, Office of Nuclear Reactor Regulation, U.S. Nuclear Regulatory Commission, Washington, DC 20555, telephone: (301) 415-1002 email: JAG2@nrc.gov.

SUPPLEMENTARY INFORMATION: This workshop will provide an opportunity to discuss topics related to Option 2 in risk-informed regulations, as discussed in NRC documents SECY-99-256 and SECY-00-0194. The NRC is developing a rulemaking (referred to as Option 2) to revise, using a risk-informed categorization approach, the scope of structures, systems and components (SSC) that are subject to special treatment requirements. Such requirements include quality assurance, testing, qualification and other measures to provide a high degree of assurance that SSC will remain functional.

Based upon the comments received in response to the ANPR, other discussions with stakeholders, and staff views, the following presents the preliminary agenda and set of discussion topics. The discussion topics are tentative and subject to change. Anyone interested in providing a presentation on these or other related topic(s), please contact Joe Golla at (301) 415-1002.

Preliminary Agenda

2/21, 1:00 p.m.-1:30 p.m.; Introduction—purpose, agenda—NRC.

2/21, 1:30 p.m.-2 p.m.; Industry opening remarks—NEI/others?

2/21, 2:00 p.m.-2:30 p.m.; Keynote remarks by Frank Miraglia, Deputy Executive Director for Reactor Programs.

2/21, 2:30 p.m.-2:45 p.m.; Break.

2:45 p.m.-3:15 p.m.; Pilot activities (WOG, BWROG, CEOG).

3:15 p.m.-3:45 p.m.; ASME Code cases.

3:45 p.m.-4:15 p.m.; Industry Guidelines—NEI.

4:15 p.m.-5:00 p.m.; Other speakers?

2/22 8:30 a.m.-10:30 a.m.; SECY-00-194 topics.

8:30 a.m.-9:15 a.m.—Box chart (other categorization topics).

9:15 a.m.-9:30 a.m.—Candidate rules.

9:30 a.m.-10:00 a.m.—Selective implementation (systems).

10:00 a.m.-10:30 a.m.—Other topics as suggested by participants.

2/22 10:30 a.m. -10:45 a.m.; Break.

2/22 10:45 a.m.-12:00 noon—Detail, NRC review, change control.

2/22 12:00 noon-1:00 p.m.; Lunch.

2/22 1:00 p.m.-3:15 p.m.—Treatment requirements.

2/22 3:15 p.m.-3:30 p.m.; Break.

2/22 3:30 p.m.-4:00 p.m.; Closing Remarks/Adjourn.

Dated at Rockville, Maryland, this 7th day of January 2001.
For the Nuclear Regulatory Commission.
Cynthia A. Carpenter,
Chief, Generic Issues, Environmental, Financial and Rulemaking Branch, Division of Regulatory Improvement Programs, Office of Nuclear Reactor Regulation.

[FR Doc. 01-1365 Filed 1-16-01; 8:45 am]

BILLING CODE 7590-01-P